DEPARTMENT OF ENERGY

Federal Energy Regulatory Commission

[Docket No. CP99-163-000; CA Clearinghouse No. SCH99041103]

Questar Southern Trails Pipeline Company; Notice of Availability, Route Inspection, and Public Meetings on a Joint Draft Environmental Impact Statement/Environmental Impact Report for the Proposed Questar Southern Trails Pipeline Project

February 25, 2000.

The staffs of the Federal Energy Regulatory Commission (FERC) and the California State Lands Commission (CSLC) have prepared a joint Draft Environmental Impact Statement/Environmental Impact Report (EIS/R) on natural gas pipeline facilities proposed by Questar Southern Trails Pipeline Company (QST) in the above-referenced docket.

The EIS/R was prepared as required by the National Environmental Policy Act and the California Environmental Policy Act. Its purpose is to inform the public and the permitting agencies about the potential adverse and beneficial environmental impacts of the proposed project and its alternatives, and recommend mitigation measures which would reduce any significant adverse impact to the maximum extent possible and, where feasible, to a less-than-significant level. The staffs conclude that approval of the proposed project, with appropriate mitigating measures as recommended, would have limited adverse environmental impact.

Proposed Project

The Southern Trails Pipeline Project involves the conversion of an existing crude oil pipeline to natural gas service, and the construction of new pipeline, compressor station, and related facilities. The Draft EIS/R assesses the potential environmental effects of the conversion, construction, and operation of the following facilities in California, Arizona, Utah, and New Mexico:

• About 675 miles of existing pipeline to be converted from crude oil to natural gas service (592 miles of 16-inch, 80 miles of 12-inch, and 3 miles of 20-inch-diameter pipeline);

• Five new pipeline extensions totaling about 43.2 miles;

• Four reroutes/realignments of the existing pipeline totaling about 9.6 miles;

• 39 replacement segments of the existing pipeline totaling about 7.3 miles;

• 240 excavation sites along the existing pipeline totaling about 5.1 miles; and

• Seven new compressor stations (six of which would be located on existing oil pump stations sites—three sites in California; two sites in Arizona; one site in Utah; and one site in New Mexico).

The proposed project would transport 80 to 90 million cubic feet per day (MMcfd) of natural gas to customers east of California and 120 MMcfd to customers in southern California.

Comment Procedures and Public Meetings

Any persons wishing to comment on the Draft EIS/R may do so. To ensure consideration of your comments on the proposal in the Final EIS/R, it is important that we receive your comments before the date specified below. Please follow these instructions carefully to ensure that your comments are received in time and properly recorded:

• Send your comments to: Secretary, Federal Energy Regulatory Commission, 888 First Street, NE, Room 1A, Washington, DC 20426;

• Reference Docket No. CP99-163-000;

• Send a copy of your comments to the following individuals:

Branch Chief, PR-11.1, Environmental Review & Compliance Branch, Federal Energy Regulatory Commission, 888 First Street, NE, Washington, DC 20426.

Daniel Gorfain, Division of Environmental Planning & Management, California State Lands Commission, 100 Howe Avenue, Suite 100 South, Sacramento, CA 95825-8202.

• Mail your comments so that they will be received in Washington, DC on or before April 17, 2000.

In addition to written comments, the staffs will hold public meetings in the project area to receive comments on the Draft EIS/R. Meetings are scheduled for Banning, Fullerton, and Long Beach in southern California; Upper Moenkopi and Kayenta in Arizona; and Farmington, New Mexico during the period April 3-11, 2000. Specific meeting places and times are identified in table at the end of this notice. Interested groups and individuals are encouraged to attend and present oral comments on the Draft EIS/R. Priority will be given to commenters who represent groups. Transcripts of the meetings will be prepared.

After comments are reviewed, any significant new issues investigated, and modifications made to the Draft EIS/R, a Final EIS/R will be published and distributed. The Final EIS/R will contain the staffs responses to comments timely filed on the Draft EIS/R.

Comments will be considered by the FERC but will not serve to make the commentor a party to the proceeding. Any person seeking to become a party to the proceeding must file a motion to intervene pursaunt to Rule 214 of the FERC's Rules of Practice and Procedures (18 CFR 385.214).

Anyone may intervene in this proceeding based on this Draft EIS/R. You must file your request to intervene as specified above. You do not need intervener status to have your comments considered.

The Draft EIS/R has been placed in the public files of the FERC and CSLC and is available for public inspection at:

Federal Energy Regulatory Commission, Public Reference and Files Maintenance Branch, 888 First Street, NE, Room 2A, Washington, DC 20426, (202) 208-1371.

California State Lands Commission, 100 Howe Avenue, Suite 100-South, Sacramento, CA 95825-8202, (916) 574-1889.

Copies also are available for reading at the following libraries:

California

Canyon Hills, Library, 400 Scout Trail, Anaheim, 92807

Euclid Branch Library, 1340 S. Euclid Street, Anaheim, 92804

Banning Public Library, 21 W. Nicholet Street, Banning, 92220

Beaumont District Library, 125 East 8th Street, Beaumont, 92223

Cabazon Library, 50171 Ramona Avenue, Cabazon, 92230

Cocoran Library, 650 South Main, Corona, 91720

Cypress Library, 5331 Orange Avenue, Cypress, 90630

Joshua Tree Branch Library, 6465 Park Boulevard, Joshua Tree, 92252

Angelo M Iacaboni Library, 4990 Clark Avenue, Lakewood, 90712

George Nye, Jr. Library, 6600 Del Amo Boulevard, Lakewood, 90713

Dominguez Library, 2719 E. Carson Street, Long Beach, 90810

Taft Library, 740 E. Taft Avenue, Orange, 92665

Yucca Valley Branch Library, 57098 29 Palms Highway, Yucca Valley, 92284

Arizona

Mohave County Library, 3260 North Burbank. Kingman, 86401

Kayenta Unified School #27, Kayenta, 86033

Utah

San Juan County Library, 25 West 300 South, Blanding, 84511

New Mexico

Farmington Public Library, 100 West Broadway, Farmington, 87401

Bloomfield Public Library, 333 South First, Bloomfield, 87413

A limited number of copies are available from the FERC's Public Reference and Files Maintenance Branch identified above. In addition, the Draft EIS/R has been mailed to Federal, state, and local agencies; public interest groups; individuals who have requested the Draft EIS/R; libraries; newspapers; and parties to this proceeding.

Route Inspection

On April 4, 2000, the FERC staff will conduct a ground inspection of portions of the existing pipeline right-of-way in the area between Tuba City and the Tonalea Pump Station site in Coconino County, Arizona. Anyone interested in participating in the inspection activities may contact the FERC's Office of External Affairs (identified at the end of this notice) for more details and must provide their own transportation.

Additional Questions

Additional information about the proposed project is available from Paul McKee in the FERC's Office of External Affairs ((202) 208-1088)); Daniel Gorfain at the CSLC ((916) 574-1889)); or on the FERC Internet website (www.ferc.fed.us) using the “RIMS” link to information in this docket number. Click on the “RIMS” link, select “Docket #” from the RIMS Menu, and follow the instructions. For assistance with access to RIMS, the RIMS help line can be reached at (202) 208-2222.

Similarly, the “CIPS” link on the FERC Internet website provides access to the text of formal documents issued by the FERC, such as orders, notices, and rulemakings. From the FERC Internet website, click on the “CIPS” link, select “Docket #” from the CIPS menu, and follow the instructions. For assistance with access to CIPS, the CIPS help line can be reached at (202) 208-2474.

Daniel Gorfain,
Project Manager, California State Lands Commission.
David Boergers,
Secretary, Federal Energy Regulatory Commission.

Schedule for Draft EIS/EIR Public Meetings
[Note: All meetings will last for 1 hour, or until the submission of public comments is concluded (whichever occurs later).]
Date & time | Community | Location
Monday, April 3, 2000, 1:30 pm | Upper Moenkopi, AZ | Moenkopi Community Building.
Wednesday,\*\ April 5, 2000, 5:00 pm | Kayenta, AZ | Kayenta Chapter House.
Thursday, April 6, 2000, 7:00 pm | Farmington, NM | Holiday Inn, 600 East Broadway, Animas Room.
| Fullerton, CA | Four Points Sheraton, 1500 South Raymond Avenue, Crown 1 Room.
Monday, April 10, 2000, 7:00 pm | Long Beach, CA | Los Cerritos Elementary School, 515 West San Antonio Drive, Auditorium.
Tuesday, April 11, 2000, 6:00 pm | Banning, CA | Banning Council Chambers, 99 East Ramsey Street.
* Date and time subject to final approval of the Kayenta Chapter. Local media and on-site announcements will advise residents of any changes to the Kayenta meeting schedule.

[FR Doc. 00-5027 Filed 3-2-00; 8:45 am]

BILLING CODE 6717-01-M